DEPARTMENT OF ENERGY

Federal Energy Regulatory Commission

[Docket Nos. RP02-17-001 and CP00-65-006]

Tennessee Gas Pipeline Company; Notice of Compliance Filing and Associated Tariff Filing

November 27, 2001.

Take notice that on November 16, 2001, Tennessee Gas Pipeline Company (Tennessee) tendered for filing as part of its FERC Gas Tariff, Fifth Revised Volume No. 1, Substitute First Revised Sheet No. 23F, with an effective date of December 1, 2001, and withdraws its Sixth Revised Sheet No. 159 which the Commission accepted in its November 2, 2001 letter order.

Tennessee states that the filing is being made in compliance with the Commission's November 2, 2001, Letter Order in Docket Nos. RP02-17-000 and CP00-65-005 and to propose Extended Receipt Service (ERS) and Extended Delivery Service (EDS) on Incremental Laterals such as the Stagecoach Lateral for shippers receiving firm transportation service under Rate Schedule FT-A.

Tennessee states that for an additional incremental charge, FT-A shippers will be able to access such Incremental Laterals, without executing a separate contract under Rate Schedule FT-IL. Tennessee requests that any waivers be granted and this filing be accepted and the tariff sheet be made effective on December 1, 2001, so that Tennessee can implement the proposed ERS and EDS on the same date that all other services relating to the Stagecoach Lateral will be effective.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-29861 Filed 11-30-01; 8:45 am]

BILLING CODE 6717-01-P